DEPARTMENT OF TRANSPORTATION

Pipeline and Hazardous Materials Safety Administration

49 CFR Parts 171, 172, 173, 176, 178, and 180

[Docket No. PHMSA-2015-0102 (HM-219A)]

RIN 2137-AF09

Hazardous Materials: Miscellaneous Petitions for Rulemaking (RRR)

AGENCY: Pipeline and Hazardous Materials Safety Administration (PHMSA), DOT.

ACTION: Notice of proposed rulemaking (NPRM).

SUMMARY: In response to petitions for rulemaking submitted by the regulated community, PHMSA proposes to amend the Hazardous Materials Regulations (HMR; 49 CFR parts 171 through 180) to update, clarify, or provide relief from miscellaneous regulatory requirements. Specifically, PHMSA is proposing amendments that include, but are not limited to, the following: Incorporating by Reference (IBR) multiple publications from both the Compressed Gas Association (CGA) and the Chlorine Institute; addressing inconsistencies with domestic and international labels and placards; permitting alternative testing for aerosols; no longer mandating that excepted quantities comply with the emergency response telephone requirement; allowing electronic signatures for Environmental Protection Agency (EPA) manifest forms; and no longer requiring the service pressure to be marked on Department of Transportation (DOT) 8 and 8L cylinders.

DATES: Comments must be submitted by August 29, 2016. To the extent possible, PHMSA will consider late-filed comments as a final rule is developed.

ADDRESSES: You may submit comments by identification of the docket number [PHMSA-2015-0102 (HM-219A)] by any of the following methods:

• Federal eRulemaking Portal: Go to http://www.regulations.gov. Follow the online instructions for submitting comments.

• Fax: 1-202-493-2251.

• Mail: Dockets Management System; U.S. Department of Transportation, Dockets Operations, M-30, Ground Floor, Room W12-140, 1200 New Jersey Avenue SE., Washington, DC 20590-0001.

• Hand Delivery: To U.S. Department of Transportation, Dockets Operations, M-30, Ground Floor, Room W12-140, 1200 New Jersey Avenue SE., Washington, DC, between 9:00 a.m. and 5:00 p.m., Monday through Friday, except Federal holidays.

Instructions: All submissions must include the agency name and docket number for this notice at the beginning of the comment. All comments received will be posted without change to the Federal Docket Management System (FDMS), including any personal information.

Docket: For access to the dockets to read background documents or comments received, go to http://www.regulations.gov or DOT's Docket Operations Office (see ADDRESSES). To access and review The Chlorine Institute publications (1) Chlorine Institute Emergency Kit “A” for 100-lb. & 150-lb. Chlorine Cylinders, Edition 12, Revision 2, July 2014 go to https://bookstore.chlorineinstitute.org/iba-instruction-booklet-chlorine-institute-emergency-kit-a-for-100-lb-and-150-lb-chlorine-cylinders-166.html; (2) Chlorine Institute Emergency Kit “B” for Chlorine Ton Containers, Edition 11, Revision 1, July 2014 go to https://bookstore.chlorineinstitute.org/mm5/merchant.mvc?Session_ID=832f559635b70c753d7a6780f4876094&Store_Code=ci2store&Screen=PROD&Product_Code=EPR_IB_B-HC&; (3) Pamphlet 57, Emergency Shut-Off Systems for Bulk Transfer of Chlorine, Edition 6, June 2015 go to https://bookstore.chlorineinstitute.org/mm5/merchant.mvc?Session_ID=832f559635b70c753d7a6780f4876094&Store_Code=ci2store&Screen=PROD&Product_Code=SPHP0057-HC&; and (4) Pamphlet 168, Guidelines for Dual Valve Systems for Bulk Chlorine Transport, Edition 2, July 2015 go to https://bookstore.chlorineinstitute.org/mm5/merchant.mvc?Session_ID=832f559635b70c753d7a6780f4876094&Store_Code=ci2store&Screen=PROD&Product_Code=SPHP0168-HC&. To access and review DoD publications include the following: (1) TB 700-2; NAVSEAINST 8020.8C; TO 11A-1-47: DoD Ammunition and Explosives Hazard Classification Procedures, 30 July 2012, go to https://www.ddesb.pentagon.mil/documents/?pg=subcont-internationalissuances; and (2) DLAR 4145.41/AR 700-143/NAVSUPINST 4030.55D/AFMAN 24-210_IP/MCO 4030.40C: Packaging of Hazardous Materials, 21 April 2015 go to http://www.dla.mil/Portals/104/Documents/J5StrategicPlansPolicy/PublicIssuances/r4145.41.pdf . To access and review Compressed Gas Association (CGA) publications including “CGA C-7-2014: Guide to Classification and Labeling of Compressed Gases, Tenth Edition” and “CGA V-9, 2012, Compressed Gas Association Standard for Compressed Gas Cylinder Valves, Seventh Edition” go to https://www.cganet.com/customer/dot.aspx.

FOR FURTHER INFORMATION CONTACT: Steven Andrews or Matthew Nickels, (202) 366-8553, Office of Hazardous Materials Standards, Pipeline and Hazardous Materials Safety Administration, U.S. Department of Transportation, 1200 New Jersey Avenue SE., Washington, DC 20590-0001.

SUPPLEMENTARY INFORMATION:

Table of Contents

I. Background

II. Summary Review of Proposed Amendments

III. Section-by-Section Review

IV. Regulatory Analyses and Notices

A. Statutory/Legal Authority for This Rulemaking

B. Executive Order 12866, Executive Order 13563, Executive Order 13610, and DOT Regulatory Policies and Procedures

C. Executive Order 13132

D. Executive Order 13175

E. Regulatory Flexibility Act, Executive Order 13272, and DOT Procedures and Policies

F. Paperwork Reduction Act

G. Regulatory Identifier Number (RIN)

H. Unfunded Mandates Reform Act

I. Environmental Assessment

J. Privacy Act

K. Executive Order 13609 and International Trade Analysis

L. National Technology Transfer and Advancement Act

I. Background

The Administrative Procedure Act (APA) requires Federal agencies to give interested persons the right to petition an agency to issue, amend, or repeal a rule (5 U.S.C. 553(e)). Section 106.95 of the HMR contains the rulemaking procedures for persons to ask PHMSA (also “we” or “us”) to add, amend, or delete a regulation by filing a petition for rulemaking containing adequate support for the requested action. In this NPRM, PHMSA proposes to amend the HMR in response to petitions for rulemaking submitted by shippers, carriers, manufacturers, and industry representatives. These proposed revisions are intended to reduce regulatory burdens while maintaining or enhancing the existing level of safety. We discuss the petitions and proposals in detail in Section II of this NPRM. The following is a brief summary of the proposed regulatory changes:

• Revise approved testing methods for aerosols.

• Revise a table related to cargo tank specifications.

• Update the IBR citation for chlorine tank cars.

• Address inconsistencies between international and domestic labels.

• Revise the vessel requirement to notify the Captain of the Port (COTP) to the presence of limited quantities of hazardous materials.

• Revise testing requirements for packages to allow liquids to be used in place of solid materials.

• Add a shipping description for roadway striping vehicles.

• Extend the service life of tank cars authorized under HM-246 to the full service life of other tanks cars authorized under § 215.203 of the Federal Railroad Administration (FRA) regulations.

• Permit the use of pallets made of non-wood materials for limited quantities.

• Revise requirements for when emergency response numbers are required for excepted quantities.

• Change units for limited quantities of ethyl alcohol to the International System of Units.

• Propose changes concerning valve requirements for cylinders as outlined in “CGA V-9-2012, Compressed Gas Association Standard for Compressed Gas Cylinder Valves, Seventh Edition.”

• Incorporate CGA standard “CGA C-7-2014, Guide to Classification and Labeling of Compressed Gases, Tenth Edition.”

• Remove requirement for the marking of the service pressure on DOT 8 and DOT 8L cylinders.

• Revise recordkeeping requirements for certain cargo tanks certified in accordance with the ASME Code.

• Revise the printing tolerances for label and placard sizes.

• Incorporate Department of Defense (DoD) explosives manual into § 171.7.

• Allow use of electronic manifest.

• Amend the HMR to acknowledge that the marked date of manufacture on a composite Intermediate Bulk Container (IBC) may differ from the marked date of manufacture on the inner receptacle of that IBC.

• Revise the basis weight tolerance provided in § 178.516(b)(7) from ± 5 percent to ± 10 percent from the nominal basis weight reported in the initial design qualification test report for 4G boxes.

II. Summary Review of Proposed Amendments

A. Testing for Aerosols

In its petition (P-1606), the Council on Safe Transportation of Hazardous Articles (COSTHA) requested that PHMSA allow alternative testing methods, such as those identified in Sections 6.2.4.2.2 and 6.2.4.3 of the United Nations (UN) Model Regulations, to the hot water bath test for aerosols currently found in § 173.306(a)(3)(v) of the HMR. Specifically, COSTHA requested that § 173.306(a)(3) be revised to allow the hot water bath test to be used for aerosols as is allowed in the UN Model Regulations.

On February 22, 2016, PHMSA published a final rule under Docket HM-233F entitled “Adoption of Special Permits” [81 FR 3635] incorporating special permits that allow for alternatives to the hot water bath test similar to those found in the UN Model Regulations. PHMSA believes these alternatives to the hot water bath test satisfy the intent of this petition and it is no longer necessary to propose any new regulatory text at this time.

B. Cargo Tank Specification

In its petition (P-1615), The Walker Group requested revisions to the table in § 180.407(g)(1)(iv) to make this section consistent with the applicable packaging specification (e.g., § 178.347). A cargo tank manufactured to the requirements of the applicable DOT specifications has to be tested in accordance with the HMR. Currently, the design specifications for cargo tanks in § 178.320 contain general requirements applicable to all cargo tanks. The design specifications, including the test pressures for older cargo tanks that are no longer authorized for manufacture but still authorized for use, were last found in the 1985 edition of the HMR (e.g., MC 306—§ 178.341-7; MC 307—§ 178.342-7; MC 312—§ 178.343-7).

This petition seeks to eliminate confusion by changing the regulations to allow the use of the marked test pressure on the cargo tank nameplate as the requalification test pressure and to amend every test pressure entry in the § 180.407(g)(1)(iv) test pressure table by beginning the entries with the phrase, “The test pressure on the nameplate (specification plate).” PHMSA conducted both a technical and policy review of the petition, and instead of modifying every test pressure entry as suggested by the petitioner, PHMSA is proposing that revisions should only apply to certain cargo tank specifications (DOT 407, MC 304, and MC 307) to harmonize the periodic hydrostatic testing required by part 180 with the initial testing for the applicable packaging specification prescribed in part 178. The revisions should further clarify that test pressures (in case of periodic pneumatic testing required by part 180) are already consistent with the initial testing for the applicable packaging specification prescribed in part 178.

C. Chlorine Institute Publications

In its petition (P-1619), the Chlorine Institute requested that updates to publications currently listed in § 171.7(l)—specifically § 171.7(l)(1), (2), (5), and (12)—and referenced in various sections of the HMR be incorporated by reference. PHMSA has conducted a review of these publications and found them suitable to propose incorporation into the HMR. Therefore, PHMSA is proposing to include the following updated documents in the referenced material:

• Chlorine Institute Emergency Kit “A” for 100-lb. & 150-lb. Chlorine Cylinders, Edition 12, Revision 2, July 2014.

• Chlorine Institute Emergency Kit “B” for Chlorine Ton Containers, Edition 11, Revision 1, July 2014.

• Pamphlet 57, Emergency Shut-Off Systems for Bulk Transfer of Chlorine, Edition 6, June 2015.

• Pamphlet 168, Guidelines for Dual Valve Systems for Bulk Chlorine Transport, Edition 2, July 2015.

D. International Label and Placard Consistency

In its petition (P-1620), Labelmaster Services requested revisions to the HMR to address inconsistencies between international and domestic labels and placards. Specifically, the petition requested revisions to §§ 172.519(f) and 172.407(f) of the HMR to allow for the use of labels and placards conforming to the specifications in the UN Recommendations on the Transport of Dangerous Goods, the International Civil Aviation Organization (ICAO) Technical Instructions on the Safe Transport of Dangerous Goods by Air, the International Maritime Dangerous Goods (IMDG) Code, or the Transport Canada Transportation of Dangerous Goods (TDG) Regulations.

After reviewing the petition, PHMSA found that the requested changes are likely to clarify some regulatory requirements and provisions that exist for the transportation of hazardous materials internationally, yet are not likely to be onerous or costly for the regulated community. Therefore, PHMSA is proposing revisions to §§ 172.519(f) and 172.407(f) of the HMR to allow for the use of labels and placards conforming to the specifications in the UN Recommendations, ICAO Technical Instructions, the IMDG Code, or the Transport Canada TDG Regulations.

E. Limited Quantities of Ammonium Nitrate by Vessel

In its petition (P-1624), Horizon Lines, LLC requested that § 176.415(b) be revised to except limited quantities of “UN1942, Ammonium nitrate” from requiring permission from the Captain of the Port (COTP) before being loaded or unloaded from a vessel at a waterfront facility. This petition for rulemaking is in response to previous changes to the HMR that eliminated the Other Regulated Materials Domestic (ORM-D) classification.

Specifically, Horizon Lines expressed concern that while the change from ORM-D to limited quantities is good for harmonization and the industry overall, the change has had some unintended negative consequences for shippers and vessel operators, including “UN1942, Ammonium nitrate” products shipped as ORM-D having to be reclassified under the limited quantities exception. Currently, the HMR require that “UN1942, Ammonium nitrate, 5.1” be moved under a United States Coast Guard (USCG) permit regardless of the quantity shipped.

In its review of the petition, PHMSA found that shipping “UN1942, Ammonium nitrate, 5.1” as a limited quantity instead of ORM-D will put a higher burden of cost on both the shipper and the vessel operator, without increasing safety, because they must continue to abide by the requirements in § 176.415(c)(4) to obtain a permit. Section 176.415(b) already provides exceptions for “UN1942, Ammonium nitrate” when shipped in a rigid packaging with a noncombustible inside packaging and “UN2067, Ammonium nitrate fertilizer” when the nearest COTP is notified at least 24 hours in advance of any loading or unloading in excess of 454 kg (1,000 pounds). Therefore, PHMSA is proposing an exception for “UN1942, Ammonium nitrate” when shipped as a limited quantity to require written notification to the USCG 24 hours prior to loading this type of cargo.

F. Use of Combination Packages Tested With a Liquid

In its petition (P-1625), HAZMATPAC requested the allowance of the shipment of solid materials in a package when that package has been tested with a liquid material. Currently, § 173.24a(b)(3) allows a single or composite non-bulk packaging that is tested and marked for a liquid hazardous material to be filled with a solid hazardous material up to a gross mass in kilograms not exceeding the rated capacity of the packaging in liters, multiplied by the specific gravity of the packaging, or 1.2 if not marked. In addition, paragraphs (i), (ii), and (iii) allow a packaging rated for a liquid Packing Group I to be filled with a solid Packing Group II hazardous material, a packaging rated for a liquid Packing Group I to be filled with a solid Packing Group III hazardous material, and a packaging rated for a liquid Packing Group II to be filled with a solid Packing Group III hazardous material, all with slightly higher allowable gross masses of such solids.

PHMSA conducted both a technical and economic policy review of the HAZMATPAC petition and found it to merit a rulemaking. Therefore, PHMSA is proposing to revise § 173.24a(b)(3) to allow combination packages tested with liquids to transport solid materials.

G. Shipping Names for Roadway Striping Vehicles

In its petition (P-1634), 3M Company requested an amendment to the table in § 173.5a(c)(l) to include an additional hazardous material description for transport in roadway striping vehicles. Specifically, 3M requested the addition of UN2735 “Amines, Liquid, Corrosive, n.o.s., 8, III” or “Polyamines, Liquid, Corrosive, n.o.s., 8, III” when used as a catalyst.

The table in § 173.5a(c)(1) currently lists “UN3267, Corrosive liquid basic, organic, n.o.s.” as a catchall for corrosive liquids while at the same time § 172.101(c)(10)(iii) reads, “A mixture or solution not identified in the Table specifically by name, comprised of two or more hazardous materials in the same hazard class, shall be described using an appropriate shipping description (e.g., `Flammable liquid, n.o.s.').” The excerpt further states that commodities that can be described explicitly (not comprised of two or more hazardous materials) should be listed by “the name that most appropriately describes the material,” with the example being an alcohol not listed by its technical name in the table being described as “Alcohol, n.o.s” rather than “Flammable liquid, n.o.s.” Because an amine compound is the single hazardous corrosive component in 3M's pavement marking liquid, PHMSA believes this change will not result in measurable economic or safety impacts. Therefore, PHMSA is proposing to add proper shipping names to § 173.5a(c)(1) to the list of authorized materials that can be used under this section.

H. Toxic by Inhalation Tank Car Lifespan

In its petition (P-1636), the Chlorine Institute requested that PHMSA extend the service life of interim compliant toxic inhalation hazard (TIH) tank cars to the full service life of all other tank cars as allowed in § 215.203 of the FRA regulations. Specifically, the Chlorine Institute requested a revision to paragraph § 173.31(e)(2)(iii), which specifies a 20-year allowable service life for tank cars transporting TIH materials that were built to specifications contemplated in the HM-246 rulemaking because of an expected delay of at least 8 to 10 years before a permanent TIH design standard and specification would be available from the Advanced Tank Car Collaborative Research Program (ATCCRP).

Although the plain language of § 173.31(e)(2)(iii) limits the authorized service life of tank cars meeting the relevant specifications to 20 years from the date of the cars' construction, the final rule in which PHMSA adopted this 20-year service life made clear that tank cars built to these specifications were intended as an interim solution to then-existing market conditions. See [74 FR 1770 (Jan. 13, 2009)]. These interim tank car specifications were intended to make immediate safety improvements in tank car construction and to ensure the ongoing availability of tank cars for the transportation of TIH materials while the Department moved forward with the development and validation of an enhanced performance standard for TIH tank cars and the incorporation of such an enhanced standard into the HMR. With the understanding of the interim nature of these cars, PHMSA intended the 20-year authorized service life to guarantee tank car owners a reasonable service life for the cars, even if the Department were to issue a new tank car standard in the years immediately following the 2009 final rule [74 FR 1770]. The Department is still working towards developing and implementing an enhanced performance standard for TIH materials tank cars. PHMSA's review of the petition found that there is likely economic merit in undertaking a rulemaking as requested. Therefore, PHMSA is proposing to revise § 173.31(e)(2)(iii) to remove the 20-year service life, which will allow continued use of the interim compliant TIH tank cars to the full service life of all other tank cars, as allowed in § 215.203.

I. Limited Quantity Pallets

In its petition (P-1638), Labelmaster Services requested a revision to the HMR that would allow the use of plastic or metal pallets to transport materials classed and marked as limited quantities. The petition specifically requested that PHMSA revise § 173.156(b)(2)(iii), which specifies these materials be secured to a wooden pallet, to also specify that they could be secured to a plastic or metal pallet.

PHMSA's review of the petition found that there is likely economic merit in undertaking a rulemaking as requested. In addition, a technical review of the petition found there should be no decrease in safety due to the proposed change. The changes suggested by this petition would allow transporters greater flexibility in their choice of pallets, with possible accompanying cost savings. Therefore, PHMSA is proposing to revise § 173.156(b)(2)(iii) to allow for the use of metal, plastic, or composite pallets used to ship limited quantities of hazardous materials.

J. Emergency Response Numbers

In its petition (P-1639), Horizon Lines, LLC requested an exception to the requirement in § 172.604(d)(1) to provide an emergency response telephone number in order to no longer require an emergency response telephone number be provided on a shipping paper for excepted quantities of hazardous materials. This change would be consistent with how PHMSA treats limited quantities of hazardous materials. Specifically, the petition asked PHMSA to revise § 172.604(d)(1) in order for it to be applicable to limited quantities and excepted quantities.

This modification is justified in that excepted quantity weights are less than the already exempted limited quantity weights. In addition, this revision will harmonize the emergency response number requirements with the IMDG Code, which does not require an emergency response telephone number on the dangerous goods documentation (or anywhere else) for any excepted material; however, all hazardous materials, including those in excepted quantities, must comply with Section 5.4.3.2 of the IMDG Code, which requires emergency response information to be communicated in ways other than a phone number, such as a Safety Data Sheet (SDS). PHMSA's review of the petition found that there is likely economic merit in undertaking a rulemaking as requested without any decrease to safety. Therefore, PHMSA is proposing to revise § 172.604(d)(1) to no longer require an emergency response telephone number on a shipping paper be provided for excepted quantities of hazardous materials.

K. Units of Measurement for Limited Quantities of Ethyl Alcohol

In its petition (P-1640), the Association of HAZMAT Shippers requested that the units of measure included in § 173.150(g) be converted to the International System of Units, as they are expressed elsewhere in the HMR. The International System of Units is typically used in the manufacturing of inner receptacles. PHMSA's review of the petition found that there is likely economic merit in undertaking a rulemaking as requested without any decrease to safety. Therefore, PHMSA is proposing to revise § 173.150(g) to convert measurements to the International System of Units.

L. Cylinder Valves and Protection Caps

In its petition (P-1641), CGA proposed to add new paragraphs § 173.301(a)(11) and (12). The proposed changes concern valve requirements for cylinders as outlined in “CGA V-9-2012, Compressed Gas Association Standard for Compressed Gas Cylinder Valves, Seventh Edition.”

Specifically, CGA requests that cylinder valves and cylinder valve protection caps manufactured on or after May 4, 2015, be required to conform to the requirements in “CGA V-9-2012, Compressed Gas Association Standard for Compressed Cylinder Valves, Seventh Edition.” Justifications for this request include ensuring standardization of cylinder valve designs and providing guidance to users on proper selection of valves. PHMSA's review of the petition found that there is likely economic merit in undertaking a rulemaking as requested without any decrease to safety. Therefore, PHMSA is proposing to add new paragraphs § 173.301(a)(11) and (12) to the HMR to conform to the new standards for cylinder valves and caps as outlined in “CGA V-9-2012, Compressed Gas Association Standard for Compressed Gas Cylinder Valves, Seventh Edition.”

M. Recordkeeping Requirements for Portable Tanks

In its petition (P-1644), HAZMAT Resources proposed to add text to § 180.605(l) to address recordkeeping requirements for portable tanks. This revision would harmonize this recordkeeping requirement with § 180.417(a)(3)(ii), which addresses recordkeeping requirements for certain cargo tank motor vehicles constructed and certified in accordance with the ASME Code. The petitioner recommends renaming § 180.605(l) to § 180.605(l)(1) and adding an additional § 180.605(l)(2). This new section would include recordkeeping requirements in line with § 180.417(a)(3)(ii). PHMSA agrees that not harmonizing recordkeeping requirements for portable tanks and cargo tank motor vehicles was an oversight and that this revision as proposed would provide an alternative means of compliance for portable tanks that has already been provided for cargo tanks. PHMSA believes there is likely economic merit in revising this section without a reduction in safety. The inclusion of a similar section in an already published § 180.407(a)(3)(ii) increases the validity of this proposed change. Therefore, PHMSA is proposing to revise § 180.605(l) to allow the owner of a portable tank to contact the National Board for a copy of the manufacture's data report, if the portable tank was registered with the National Board, or copy the information contained on the portable tanks specification plate and ASME Code data plates.

N. Printing Tolerances for Labels and Placards

In its petition (P-1650), Labelmaster Services proposed to revise §§ 172.407(c) and 172.519(c) of the HMR to allow for printing tolerances for labels and placards. Labelmaster noted that the printing tolerances specified for the solid-line inner border that is parallel to the edge is extremely difficult to maintain with standard printing processes.

After a policy review of the petition, PHMSA agrees with Labelmaster that the absence of a tolerance will increase printing costs, as well as lead to inconsistent enforcement practices and confusion on the part of businesses attempting to remain compliant, without providing any increase in safety or hazard communication. Therefore, PHMSA is proposing to revise §§ 172.407(c) and 172.519(c) to add the word “approximately” to these sections to allow for printing tolerances with respect to the solid inner border for labels and placards. PHMSA believes that this simple fix and small change in the HMR could reduce costs with no degradation in safety.

O. Incorporation of Department of Defense Standards

In its petition (P-1651), the Department of Defense (DoD) Explosives Safety Board requested that PHMSA amend the citations in § 171.7(o)(1) and (2) to include the latest detailed publications used by the DoD in its examination and classification of explosives. PHMSA reviewed and provided feedback to DoD on the proposed changes to the manuals. Updating this manual is essential to allowing the DoD to safely move explosives in the interest of national security. Therefore, PHMSA is proposing to incorporate these documents into the HMR as requested.

P. Definitions for “Basic Description” and “Shipping Description”

In its petition (P-1655), the Dangerous Goods Trainers Association (DGTA) proposed that PHMSA revise § 171.8 to add definitions for “Basic Description” and “Shipping Description.” The DGTA specifically suggested that adding these definitions to the HMR will provide vital clarification to the meaning of these terms. The DGTA informed PHMSA that its members often receive questions from trainees about the terms “basic description” and “shipping description,” which are used to describe the information required on shipping papers in accordance with part 172, subpart C of the HMR—Shipping Papers. The petition proposes definitions be provided for “basic description” and “shipping description” in § 171.8, along with amendments to the HMR to ensure that these terms are used consistently and appropriately. PHMSA believes there is likely merit in adding these definitions without a reduction in safety. Therefore, PHMSA is proposing definitions for “basic description” and “shipping description” in § 171.8 of the HMR.

Q. Service Pressure Marking for DOT 8 and DOT 8L Cylinders

In its petition (P-1656), Norris Cylinder proposed that PHMSA revise § 178.35(f)(7) to no longer require the marking of the service pressure on DOT 8 and DOT 8L cylinders. After both a technical and policy review of the petition, PHMSA agrees with Norris Cylinder that it was never the intention to require the marking of the service pressure on DOT 8 and DOT 8L cylinders. Therefore, PHMSA is proposing to revise this section as requested by the petitioner.

R. Incorporation of CGA Publication

In its petition (P-1657), CGA proposed to IBR updates to the CGA publication “CGA C-7-2014, Guide to Classification and Labeling of Compressed Gases, Tenth Edition” currently listed in § 171.7(n)(7). This IBR has been updated to meet requirements for the U.S. Occupational Health and Safety Administration (OSHA) and was previously incorporated into OSHA's regulations in 2012. The CGA is requesting that PHMSA permit the use of the 2014 edition of CGA C-7 to keep the DOT current with industry practices that are incorporated into Appendix A of C-7.

PHMSA's review of the petition found that there are some editorial changes to the text of Appendix A in the 2014 edition that were added for clarity but do not impact the use of the required labels. Therefore, PHMSA is proposing the incorporation by reference of “CGA C-7-2014, Guide to Classification and Labeling of Compressed Gases, Tenth Edition” into the HMR.

S. Use of Electronic Manifest

In its petition (P-1659), COSTHA proposed to revise § 172.205 to permit the use of electronic signatures when completing an EPA form 8700-22 and 8700-22A. PHMSA reviewed and concurred with this proposed change, believing there is likely merit without a reduction in safety. Therefore, PHMSA is proposing to add paragraph (j) to permit the use of electronic signatures when completing an EPA form 8700-22 and 8700-22A.

T. Marked Date of Manufacture on Composite IBCs

In its petition (P-1662), Rigid Intermediate Bulk Container Association of North America (RIBCNA) proposed to amend § 178.703(b) to acknowledge that the marked date of manufacture on a composite IBC may differ from the marked date of manufacture on the inner receptacle of that IBC. The RIBCNA petitioned PHMSA to propose the substance of the UN adopted note, “The date of manufacture of the inner receptacle may be different from the marked date of manufacture (see 6.5.2.1), repair (see 6.5.4.5.3) or remanufacture (see 6.5.2.4) of the composite IBC,” as a final sentence in § 178.703(b)(6)(i) to read as follows: “The date of manufacture of the inner receptacle may be different from the marked date of manufacture required by § 178.703(a)(1)(iv) or by § 180.352(d)(1)(iv).”

After a review of the petition, PHMSA found that allowing the inner receptacle and the composite IBC to have different date markings will have no effect on the safety of the use and manufacture of IBCs. Integrating the proposed language into the current HMR will also bring rules governing markings of IBCs more in line with current international standards. Therefore, PHMSA is proposing a change to the HMR to allow the date of manufacture on the inner receptacle to be different than on the composite IBC.

U. Basis Weight Tolerances for Liners and Mediums Used in the Manufacture of Specification UN 4G Fiberboard Boxes

In its petition (P-1663), COSTHA requested PHMSA revise the basis weight tolerance provided in § 178.516(b)(7) from +/−5 percent to +/−10 percent from the nominal basis weight reported in the initial design qualification test report.

PHMSA conducted a review of the petition and found that the requested change is unlikely to affect safety in any way and is largely following industry practices. The realities of paper manufacturing are such that a wide range of basis weights can be found on any large enough sample of fiberboard run on the same line to the same specification. This revision would only modify the percentage threshold for the allowable nominal basis weight for fiberboard boxes and would not result in any fundamental changes to testing, recordkeeping, or approval processes by either PHMSA or the regulated community. Therefore, PHMSA is proposing to revise the basis weight tolerance provided in § 178.516(b)(7) from +/−5 percent to +/−10 percent from the nominal basis weight reported in the initial design qualification test report.

III. Section-by-Section Review

Below is a section-by-section description of the changes being proposed in this NPRM.

A. Section 171.7

Section 171.7 lists all standards incorporated by reference into the HMR that are not specifically set forth in the regulations. This NPRM proposes to incorporate by reference publications by the Chlorine Institute, the DoD, and the CGA.

The Chlorine Institute publications include the following:

1. Chlorine Institute Emergency Kit “A” for 100-lb. & 150-lb. Chlorine Cylinders, Edition 12, Revision 2, July 2014. This publication is freely available on the Chlorine Institute Web site at: https://bookstore.chlorineinstitute.org/iba-instruction-booklet-chlorine-institute-emergency-kit-a-for-100-lb-and-150-lb-chlorine-cylinders-166.html. This publication provides instructions and illustrates the use of Chlorine Institute Emergency Kit 'A'. This booklet provides instructions for both generations of Emergency Kit 'A', those manufactured before 12/31/12 and after 1/1/13. It also includes complete parts list for both generations.;

2. Chlorine Institute Emergency Kit “B” for Chlorine Ton Containers, Edition 11, Revision 1, July 2014. This publication is available on the Chlorine Institute Web site at: https://bookstore.chlorineinstitute.org/mm5/merchant.mvc?Session_ID=832f559635b70c753d7a6780f4876094&Store_Code=ci2store&Screen=PROD&Product_Code=EPR_IB_B-HC&. This publication provides instructions and illustrates the use of Chlorine Institute Emergency Kit “B.” Includes complete parts list. Depictions of commonly used optional devices were added to this edition and numerous editorial revisions were made. In addition, instructions on how to apply both the current and previous kit devices of Emergency Kit “B” are included.

3. Pamphlet 57, Emergency Shut-Off Systems for Bulk Transfer of Chlorine, Edition 6, June 2015. This publication is available on the Chlorine Institute Web site at: https://bookstore.chlorineinstitute.org/mm5/merchant.mvc?Session_ID=832f559635b70c753d7a6780f4876094&Store_Code=ci2store&Screen=PROD&Product_Code=SPHP0057-HC&. This publication describes recommended practices for emergency shut-off protection during chlorine transfers involving bulk containers.

4. Pamphlet 168, Guidelines for Dual Valve Systems for Bulk Chlorine Transport, Edition 2, July 2015. Pamphlet 168 is to be added to the HMR at § 178.337-9. This publication is available on the Chlorine Institute Web site at: https://bookstore.chlorineinstitute.org/mm5/merchant.mvc?Session_ID=832f559635b70c753d7a6780f4876094&Store_Code=ci2store&Screen=PROD&Product_Code=SPHP0168-HC&. This publication sets forth performance/selection criteria that should be utilized in identifying dual valve systems for bulk chlorine transportation applications (i.e., tank cars, cargo tanks and barges). These configurations are intended to meet DOT and Transport Canada (TC) performance requirements. This pamphlet contains information pertaining to standardizations, performance/design criteria, operational considerations and installation considerations, as well as an appendix that includes valve manufacturer information.

DoD publications include the following:

1. TB 700-2; NAVSEAINST 8020.8C; TO 11A-1-47: DoD Ammunition and Explosives Hazard Classification Procedures, 30 July 2012, into § 173.56. This publication is freely available on the DoD Web site at: https://www.ddesb.pentagon.mil/docs/TB700-2.pdf. This publication sets forth detailed procedures for hazard classifying ammunition and explosives in accordance with DOT regulations, North Atlantic Treaty Organization guidelines, and United Nations recommendations.

2. DLAR 4145.41/AR 700-143/NAVSUPINST 4030.55D/AFMAN 24-210_IP/MCO 4030.40C: Packaging of Hazardous Materials, 21 April 2015 into § 173.7. This publication is freely available on the DoD Web site at: http://www.dla.mil/Portals/104/Documents/J5StrategicPlansPolicy/PublicIssuances/r4145.41.pdf. This publication reissues establishes uniform policy for packaging hazardous materials for safe, efficient, and legal storage, handling, and transportation, to include Department of Transportation Special Permit (DOT-SP), Competent Authority Approval (CAA), Certificate of Equivalency (COE) and Packaging Waivers for Military Air in accordance with AR 700-15/NAVSUPINST 4030.28E/AFJMAN 24-206/MCO 4030.33E/DLAR 4145.7 (Reference (c)) and Defense Transportation Regulation (DTR) 4500.9- R-Part II, Cargo Movement (Reference (d)).

CGA publications include the following:

1. “CGA C-7-2014, Guide to Classification and Labeling of Compressed Gases, Tenth Edition. During the open comment period of this NPRM, this publication is freely available on the CGA Web site at: https://www.cganet.com/customer/dot.aspx. This publication states the general principles for labels and markings and give recommended minimum requirements for many hazardous gases and selected liquids.

2. CGA V-9, 2012, Compressed Gas Association Standard for Compressed Gas Cylinder Valves, Seventh Edition. During the open comment period of this NPRM, this publication is freely available on the CGA Web site at: https://www.cganet.com/customer/dot.aspx. This publication specifies general cylinder valve design, design qualification, required markings, and performance requirements such as operating temperature limits, pressure ranges, operating torque limits, and flow capabilities. Also provided are testing and maintenance requirements.

B. Section 172.205

Section 172.205 describes the requirements for the use of hazardous waste manifest. This NPRM proposes to add paragraph (j) to permit the use of electronic signatures when completing an EPA form 8700-22 and 8700-22A.

C. Section 172.407

Section 172.407 describes the label specifications for packages shipping hazardous materials under the HMR. This NPRM proposes to revise paragraph (c) to allow for size tolerances for the labels by inserting the term “approximately” for the inner border to be 5 mm. This NPRM also proposes to revise paragraph (f) to address inconsistencies between international and domestic labels.

D. Section 172.519

Section 172.519 describes placard specification for shipments of hazardous materials that require placards. This NPRM proposes to revise paragraph (c) to allow for size tolerances for the placards by inserting the term “approximately” for the inner border to be 5 mm.

E. Section 172.604

Section 172.604 describes the requirements to have an emergency response number on shipping papers for shipments of hazardous materials. This NPRM proposes to no longer require an emergency response number for excepted quantities of hazardous materials by revising § 172.604(d).

F. Section 173.5a

Section 173.5a outlines the requirements for cargo tank motor vehicles used for roadway striping. This NPRM proposes to add proper shipping names to § 173.5a(c)(1) to the list of authorized materials that can be used under this section.

G. Section 173.24a

Section 173.24a outlines the general requirements for non-bulk packages. This NPRM proposes to revise each paragraph in this section to allow for packages tested with a liquid material to be filled with a solid material of the equivalent packing group.

H. Section 173.31

Section 173.31 outlines the specifications for the use of tank cars. Specifically, § 173.31(e) outlines the specifications for tank cars used to transport materials that are poisonous by inhalation. This NPRM proposes to remove the reference to the 20-year service life for these tank cars in § 173.31(e)(2)(iii), thus extending the service life to the standard for all tank cars set forth at § 215.203 of the Federal Railroad Administration (FRA) regulations.

I. Section 173.150

Section 173.150 outlines exceptions for Class 3 flammable and combustible liquids. This NPRM proposes to change the units in § 173.150(g) from imperial units to the International System of Units and to revise all the units in this section to the International System of Units.

J. Section 173.156

Section 173.156 outlines exceptions for limited quantities and ORM-D materials. This NPRM proposes to revise § 173.156(b)(2)(iii) to allow for pallets to be made of metal, plastic, or composite materials in addition to wood.

K. Section 173.301

Section 173.301 outlines the general requirements for the shipment of compressed gases and other hazardous materials in cylinders, UN pressure receptacles, and spherical pressure vessels. This NPRM proposes to revise § 173.301(a) by adding subparagraphs (11) and (12). Paragraph (11) will require all cylinder valves manufactured on or after May 4, 2015, to conform to the requirements in CGA V-9-2012, as well as requiring UN pressure receptacles to conform to the requirements of § 173.301b(c)(1). Paragraph (12) will require that cylinder valve protection caps manufactured on or after May 4, 2015, conform to the requirements of CGA V-9-2012. Cylinder valve protection caps used on UN cylinders must conform to the requirements in § 173.301b(c)(2)(ii).

L. Section 173.306

Section 173.306 outlines the requirements for limited quantities of compressed gases. This NPRM proposes to allow alternate test methods to the current hot water bath test in the UN Model Regulations.

M. Section 176.415

Section 176.415 outlines permit requirements for Division 1.5, ammonium nitrates, as well as certain ammonium nitrate fertilizers. This NPRM proposes to no longer require written permission from the COTP to load or unload limited quantities of ammonium nitrates.

N. Section 178.35

Section 178.35 outlines the general requirements for specification cylinders. This NPRM proposes to revise § 178.35 to no longer require the marking of the service pressure for DOT 8 and DOT 8 AL cylinders.

O. Section 178.337

Section 178.337-9 outlines the requirements for pressure relief devices, piping, valves, hoses, and fittings. This NPRM proposes to revise § 178.337-9(b)(8) to add a reference to allow the use of “Sections 4 through 6, Pamphlet 168, Guidelines for Dual Valve Systems for Bulk Chlorine Transport, Edition 1, February 2013” under this section.

P. Section 178.516

Section 178.516 outlines the standards for fiberboard boxes. This NPRM proposes to revise § 178.516(b)(7) to allow for the paper wall basis weights that vary by not more than +/−10 percent from the nominal basis weight reported in the initial design qualification test report.

Q. Section 178.703

Section 178.703 outlines the marking requirements for IBCs. This NPRM proposes to revise § 178.703(b)(6)(i) by clarifying that the date of manufacture of the inner receptacle may be different from the marked date of manufacturer required by § 178.703(a)(1)(iv) or § 180.352(d)(1)(iv) provided that the retest and inspection of the IBCs be based on the EARLIEST marked date.

R. Section 180.407

Section 180.407 outlines the requirements for the testing and inspection of specification cargo tanks. This NPRM proposes to revise the table in § 180.407(g)(1)(iv) to put the words “the test pressure on the name plate” in the test pressure column before each test pressure specification.

S. Section 180.605

Section 180.605 outlines the requirements for periodic testing, inspection, and repair of portable tanks. This NPRM proposes to revise § 180.605(l) by adding § 180.605(l)(2) to allow the owner of a portable tank to contact the National Board for a copy of the manufacture's data report, if the portable tank was registered with the National Board, or copy the information contained on the portable tank's specification plate and ASME Code data plates.

IV. Regulatory Analyses and Notices

A. Statutory/Legal Authority for This Rulemaking

This NPRM is published under authority of the Federal Hazardous Materials Transportation Law (Federal Hazmat Law; 49 U.S.C. 5101 et seq.). Section 5103(b) of Federal Hazmat Law authorizes the Secretary of Transportation to prescribe regulations for the safe transportation, including security, of hazardous materials in intrastate, interstate, and foreign commerce.

B. Executive Order 12866, Executive Order 13563, Executive Order 13610, and DOT Regulatory Policies and Procedures

This NPRM is not considered a significant regulatory action under Section 3(f) of Executive Order 12866 (“Regulatory Planning and Review”) and, therefore, was not reviewed by the Office of Management and Budget (OMB). The proposed rule is not considered a significant rule under the Regulatory Policies and Procedures order issued by the U.S. Department of Transportation [44 FR 11034].

Background

Executive Orders 12866 (“Regulatory Planning and Review”) and 13563 (“Improving Regulation and Regulatory Review”) require agencies to regulate in the “most cost-effective manner,” to make a “reasoned determination that the benefits of the intended regulation justify its costs,” and to develop regulations that “impose the least burden on society.”

Executive Order 13563 (“Improving Regulation and Regulatory Review”) supplements and reaffirms the principles, structures, and definitions governing regulatory review that were established in Executive Order 12866 of September 30, 1993. In addition, Executive Order 13563 specifically requires agencies to: (1) Involve the public in the regulatory process; (2) promote simplification and harmonization through interagency coordination; (3) identify and consider regulatory approaches that reduce burden and maintain flexibility; (4) ensure the objectivity of any scientific or technological information used to support regulatory action; and (5) consider how to best promote retrospective analysis to modify, streamline, expand, or repeal existing rules that are outmoded, ineffective, insufficient, or excessively burdensome.

Executive Order 13610 (“Identifying and Reducing Regulatory Burdens”), issued May 10, 2012, urges agencies to conduct retrospective analyses of existing rules to examine whether they remain justified and whether they should be modified or streamlined in light of changed circumstances, including the rise of new technologies.

PHMSA has involved the public in the regulatory process in a variety of ways for this proposed rulemaking. Specifically, in this rulemaking PHMSA is responding to 25 petitions that have been submitted by the public in accordance with the Administrative Procedure Act and PHMSA's rulemaking procedure regulations (49 CFR 106.95). Key issues covered by the petitions include requests from the public to revise packaging requirements and incorporate multiple publications by reference.

Affected Entities

This NPRM proposes regulatory changes responding to 25 petitions that have been submitted by the public. This NPRM would affect some PHMSA stakeholders, including hazardous materials shippers and carriers by highway, rail, vessel, and aircraft, as well as package manufacturers and testers.

Summary of Costs

PHMSA anticipates the proposals contained in this rule will have minimal costs. For the purposes of analysis PHMSA grouped the proposed amendments by the type of change they implement. These groupings include Harmonization, Regulatory Clarity/Editorial, Regulatory Flexibility, and Incorporation of Standards. We discuss qualitatively the cost of these groupings below.

Harmonization. PHMSA believes that this proposed set of amendments aimed at harmonizing the HMR with international standards will increase standardization and consistency of regulations, which will result in minimal costs. However, if the changes in this proposed rule are not adopted in the HMR, U.S. companies, including numerous small entities competing in foreign markets, would be at an economic disadvantage. These companies would be forced to comply with a dual system of regulations. The changes in this proposed rulemaking are intended to avoid this result.

Regulatory Clarity/Editorial. PHMSA believes that this proposed set of amendments aimed at improving regulatory clarity and making editorial changes would have no cost. These amendments simply clarify existing requirements to improve compliance.

Regulatory Flexibility. PHMSA believes that this proposed set of amendments aimed at regulatory flexibility would have no cost. These amendments would provide alternative methods of compliance while retaining current HMR requirements. Those stakeholders impacted by these changes would have the regulatory flexibility to choose the most beneficial (e.g. least costly) manner of compliance.

Incorporation of Standards. PHMSA believes that this proposed set of amendments aimed at incorporating consensus industry standards will have a marginal cost. This cost would be the cost of purchasing the appropriate industry standard.

Summary of Benefits

While PHMSA anticipates that the proposals contained in this rule will have minimal costs, there are corresponding benefits that exceed those costs. For the purposes of analysis PHMSA grouped the proposed amendments by the type of change they implement. These groupings include Harmonization, Regulatory Clarity/Editorial, Regulatory Flexibility, and Incorporation of Standards. We discuss qualitatively the benefits of these groupings below.

Harmonization. PHMSA believes that this proposed set of amendments aimed at harmonizing the HMR with international standards will increase standardization and consistency of regulations, which will result in overall marginal benefits. Adopting these amendments would enhance transportation safety by increasing the consistency of domestic and international hazard hazardous materials transportation regulations. American manufacturers of hazardous materials would also benefit with continued access to foreign markets. Shippers engaged in domestic and international commerce, including trans-border shipments within North America would save money and experience fewer regulatory burdens.

Regulatory Clarity/Editorial. PHMSA believes that this proposed set of amendments aimed at improving regulatory clarity and making editorial changes would have no cost but may foster greater compliance and improved safety. This greater compliance could result in the benefit of decreased hazardous materials related injuries.

Regulatory Flexibility. PHMSA believes that this proposed set of amendments aimed at regulatory flexibility would provide alternative methods of compliance while retaining current HMR requirements. These alternative methods of compliance would provide an equivalent level of safety to current requirements. Those stakeholders impacted by these changes would have the regulatory flexibility to choose the most beneficial manner of compliance.

Incorporation of Standards. PHMSA believes that this proposed set of amendments aimed at incorporating consensus industry standards will have benefits associated with increased clarity and consistency. In addition, adoption and updating of these standards to current version will insure the most recent best practices and technology are implemented.

Conclusion

In this NPRM, we propose to amend miscellaneous provisions in the HMR to clarify the provisions and to relax overly burdensome requirements. PHMSA anticipates the proposals contained in this rule will have marginal economic benefits to the regulated community with minimal costs. This NPRM is designed to increase the clarity of the HMR, thereby increasing voluntary compliance while reducing compliance costs.

C. Executive Order 13132

This proposed rule was analyzed in accordance with the principles and criteria contained in Executive Order 13132 (“Federalism”). This proposed rule would preempt State, local, and Indian tribe requirements but does not propose any regulation that has substantial direct effects on the states, the relationship between the national government and the states, or the distribution of power and responsibilities among the various levels of government. Therefore, the consultation and funding requirements of Executive Order 13132 do not apply.

The Federal Hazardous Materials Transportation Law, 49 U.S.C. 5125(b)(1), contains an express preemption provision (49 U.S.C. 5125(b)) preempting State, local, and Indian tribe requirements on certain covered subjects. Covered subjects are:

(i) The designation, description, and classification of hazardous materials;

(ii) The packing, repacking, handling, labeling, marking, and placarding of hazardous materials;

(iii) The preparation, execution, and use of shipping documents related to hazardous materials and requirements related to the number, content, and placement of those documents;

(iv) The written notification, recording, and reporting of the unintentional release in transportation of hazardous materials; or

(v) The design, manufacture, fabrication, marking, maintenance, reconditioning, repair, or testing of a packaging or container which is represented, marked, certified, or sold as qualified for use in the transport of hazardous materials.

This proposed rule concerns the classification, packaging, marking, labeling, and handling of hazardous materials, among other covered subjects. If adopted, this rule would preempt any State, local, or Indian tribe requirements concerning these subjects unless the non-Federal requirements are “substantively the same” as the Federal requirements. (See 49 CFR 107.202(d).)

The Federal Hazardous Materials Transportation Law provides at 49 U.S.C. 5125(b)(2) that if PHMSA issues a regulation concerning any of the covered subjects, PHMSA must determine and publish in the Federal Register the effective date of Federal preemption. That effective date may not be earlier than the 90th day following the date of issuance of the final rule and not later than two years after the date of issuance. PHMSA proposes the effective date of Federal preemption be 90 days from publication of a final rule in this matter in the Federal Register.

D. Executive Order 13175

This proposed rule has been analyzed in accordance with the principles and criteria contained in Executive Order 13175 (“Consultation and Coordination with Indian Tribal Governments”). Because this proposed rule does not have tribal implications and does not impose substantial direct compliance costs on Indian tribal governments, the funding and consultation requirements of Executive Order 13175 do not apply, and a tribal summary impact statement is not required.

E. Regulatory Flexibility Act, Executive Order 13272, and DOT Procedures and Policies

The Regulatory Flexibility Act (5 U.S.C. 601 et seq.) requires an agency to review regulations to assess their impact on small entities unless the agency determines the rule is not expected to have a significant impact on a substantial number of small entities. This proposed rule would amend miscellaneous provisions in the HMR to clarify provisions based on petitions for rulemaking. While maintaining safety, it would relax certain requirements that are overly burdensome and provide clarity where requested by the regulated community. The proposed changes are generally intended to provide relief to shippers, carriers, and packaging manufacturers, including small entities.

The Regulatory Flexibility Act directs agencies to establish exceptions and differing compliance standards for small businesses, where it is possible to do so and still meet the objectives of applicable regulatory statutes. In the case of hazardous materials transportation, it is not possible to establish exceptions or differing standards and still accomplish our safety objectives.

The proposed changes are generally intended to provide relief to shippers, carriers, and packaging manufactures and testers, including small entities. Therefore, this proposed rule will not have a significant economic impact on a substantial number of small entities.

This proposed rule has been developed in accordance with Executive Order 13272 (“Proper Consideration of Small Entities in Agency Rulemaking”) and the DOT's procedures and policies to promote compliance with the Regulatory Flexibility Act to ensure that potential impacts of draft rules on small entities are properly considered.

F. Paperwork Reduction Act

This proposed rule does not impose any new information collection requirements, and in one instance, marginally decreases the information collection burden on the reregulated community. Specifically, the following information collection requirement is affected by this rulemaking:

OMB Control No. 2137-0034: Hazardous Materials Shipping Papers and Emergency Response Information.

Decrease in Annual Number of Respondents: 1,000.

Decrease in Annual Responses: 1,666,667.

Decrease in Annual Burden Hours: 4,629.

Decrease in Annual Burden Cost: $95,403.69.

PHMSA estimates that no longer requiring the emergency response number for limited quantity shipments by vessel will reduce the number of burden hours by 4,629. PHMSA estimates that no longer requiring the emergency response number on shipping paper will save 10 seconds per shipping paper and affect 1,666,667 shipments per year. PHMSA estimates a savings of $.06 per shipment resulting in cost savings of $95,403.69.

Please direct your requests for a copy of this final information collection to Steven Andrews or T. Glenn Foster, Office of Hazardous Materials Standards (PHH-12), Pipeline and Hazardous Materials Safety Administration, 1200 New Jersey Avenue SE., 2nd Floor, Washington, DC 20590-0001.

G. Regulatory Identifier Number (RIN)

A regulatory identifier number (RIN) is assigned to each regulatory action listed in the Unified Agenda of Federal Regulations. The Regulatory Information Service Center publishes the Unified Agenda in April and October of each year. The RIN number contained in the heading of this document can be used to cross-reference this action with the Unified Agenda.

H. Unfunded Mandates Reform Act

This proposed rule does not impose unfunded mandates under the Unfunded Mandates Reform Act of 1995. It does not result in costs of $141.3 million or more to either State, local, or tribal governments, in the aggregate, or to the private sector, and is the least burdensome alternative that achieves the objective of the rule.

I. Environmental Assessment

The National Environmental Policy Act, 42 U.S.C. 4321-4375, requires Federal agencies to analyze proposed actions to determine whether the action will have a significant impact on the human environment. The Council on Environmental Quality (CEQ) regulations require Federal agencies to conduct an environmental review considering: (1) The need for the proposed action; (2) alternatives to the proposed action; (3) probable environmental impacts of the proposed action and alternatives; and (4) the agencies and persons consulted during the consideration process.

Need for the Proposed Action

In response to petitions for rulemaking submitted by the regulated community, PHMSA proposes to amend the Hazardous Materials Regulations (HMR; 49 CFR parts 171-180) to update, clarify, or provide relief from miscellaneous regulatory requirements. Specifically, PHMSA is proposing amendments that include, but are not limited to, the following: Incorporating by Reference (IBR) multiple publications from both the Compressed Gas Association (CGA) and the Chlorine Institute; addressing inconsistencies with domestic and international labels and placards; permitting alternative testing for aerosols; excepting excepted quantities from the emergency response telephone requirement; allowing electronic signatures for Environmental Protection Agency (EPA) manifest forms; and no longer requiring the service pressure to be marked on Department of Transportation (DOT) 8 and 8L cylinders.

These amendments are intended to promote safety, regulatory relief, and clarity. The proposed changes were identified in response to petitions from stakeholders affected by the HMR. These proposed minor changes will clarify the HMR and enhance safety, while offering some net economic benefits.

This action is necessary to: (1) Fulfill our statutory directive to promote transportation safety; (2) fulfill our statutory directive under the Administrative Procedure Act (APA) that requires Federal agencies to give interested persons the right to petition an agency to issue, amend, or repeal a rule (5 U.S.C. 553(e)); (3) support governmental efforts to provide regulatory relief to the regulated community; (4) address safety concerns raised by petitioners and remove identified regulatory ambiguity; and (5) simplify and clarify the regulations in order to promote understanding and compliance.

The intended effect of this action is to enhance the safe transportation of hazardous materials and, in conjunction, clarify, simplify, and relax certain regulatory requirements for carriers, shippers, and other stakeholders. These regulatory revisions will offer more efficient and effective ways of achieving the PHMSA goal of safe and secure transportation, protecting both people and the environment, of hazardous materials in commerce.

Alternatives

In proposing this rulemaking, PHMSA is considering the following alternatives:

Alternative 1: No Action

If PHMSA chose this alternative, it would not proceed with any rulemaking on this subject and the current regulatory standards would remain in effect. This option would not address outstanding petitions for rulemaking. We rejected the no action alternative.

Alternative 2: Go Forward With the Proposed Amendments to the HMR in This NPRM

This alternative is the current proposal as it appears in this NPRM, applying to transport of hazardous materials by highway, rail, vessel, and aircraft. The proposed amendments encompassed in this alternative are more fully addressed in the preamble and regulatory text sections of the NPRM.

Probable Environmental Impacts of the Alternatives

When developing potential regulatory requirements, PHMSA evaluates those requirements to consider the environmental impact of each amendment. Specifically, PHMSA evaluates the: Risk of release and resulting environmental impact; risk to human safety, including any risk to first responders; longevity of the packaging; and if the proposed regulation would be carried out in a defined geographic area, the resources, especially any sensitive areas, and how they could be impacted by any proposed regulations. Of the regulatory changes proposed in this rulemaking, most have been determined to be clarification, technology/design updates, harmonization, regulatory flexibility, standard incorporation, or editorial in nature. As such, these amendments have little or no impact on: The risk of release and resulting environmental impact; human safety; or longevity of the packaging. None of these amendments would be carried out in a defined geographic area, i.e., this is a nation-wide rule making.

Alternative 1: No Action

If PHMSA were to select the No Action Alternative, current regulations would remain in place, and no new provisions would be added. However, efficiencies gained through harmonization in updates to transport standards, lists of regulated substances, definitions, packagings, markings requirements, shipper requirements, modal requirements, etc., would not be realized. Foregone efficiencies in the No Action Alternative also include freeing up limited resources to concentrate on hazardous materials transportation issues of potentially much greater environmental impact. Not adopting the proposed environmental and safety requirements in the NPRM under the No Action Alternative would result in a lost opportunity for reducing negative environmental and safety-related impacts. Greenhouse gas emissions would remain the same under the No Action Alternative.

Alternative 2: Go Forward With the Proposed Amendments to the HMR in This NPRM:

The Preferred Alternative encompasses enhanced and clarified regulatory requirements, which would result in increased compliance and less negative environmental and safety impacts. The table below summarizes possible environmental benefits and any potential negative impacts for the amendments proposed in the NPRM. A detailed discussion on the potential environmental impacts of each type of amendment is included in the complete EA placed in the docket for this rulemaking.

Summary of Probable Environmental Impacts by Amendments
Proposed amendment(s) to HMR (lettered as above herein) | Type of amendment(s) | Probable environmental impact(s) anticipated
A. Testing for Aerosols | Harmonization | No impacts—slightly positive benefits.
B. Cargo Tank Specification | Regulatory Clarity | No impacts—slightly positive benefits.
C. Chlorine Institute Publications | Update (Publications) | No impacts—slightly positive benefits.
D. International Label and Placard Consistency | Harmonization | Slightly positive benefits.
E. Limited Quantities of Ammonium Nitrate by Vessel | Exception | No impacts.
F. Use of Combination Packages Tested with a Liquid | Regulatory Flexibility | Very slight, negligible, or no impacts.
G. Shipping Names for Roadway Stripping Vehicles | Editorial | No impacts.
H. Toxic by Inhalation (TIH) Tank Car Lifespan | Regulatory Flexibility | No impacts.
I. Limited Quantity Pallets | Regulatory Flexibility | No impacts—slightly positive benefits.
J. Emergency Response Numbers | Harmonization | No impacts.
K. Units of Measurement for Limited Quantities of Ethyl Alcohol | Harmonization/Editorial | No impacts.
L. Cylinder Valves and Protection Caps | Standard Incorporation | No impacts—slightly positive benefits.
M. Recordkeeping Requirements for Portable Tanks | Regulatory Clarity, Harmonization | No impacts—slightly positive benefits.
N. Printing Tolerances for Labels and Placards | Regulatory Flexibility | Slightly positive benefits.
O. Incorporation of Department of Defense (DoD) Standards | Standard Incorporation | Slightly positive—moderate benefits.
P. Definitions for “Basic Description” and “Shipping Description” | Regulatory Clarity | No impacts—slightly positive impacts.
Q. Service Pressure Marking for DOT 8 and DOT 8L Cylinders | Regulatory Flexibility | No impacts.
R. Incorporation of CGA Publications | Standard Incorporation | No impacts—slightly positive benefits.
S. Use of Electronic Manifest | Update (Technology/Design), Regulatory Flexibility | No impacts—slightly positive benefits.
T. Marked Date of Manufacture on Composite IBCs | Harmonization | No impacts—slightly positive benefits.
X. Basis Weight Tolerances for Liners and Mediums Used in the Manufacture of Specification UN 4G Boxes | Regulatory Flexibility | No impacts.

If PHMSA selects the provisions as proposed in this NPRM, we believe that safety and environmental risks would be reduced and that protections to human health and environmental resources would be increased.

Agencies Consulted

This NPRM would affect some PHMSA stakeholders, including hazardous materials shippers and carriers by highway, rail, vessel, and aircraft, as well as package manufacturers and testers. PHMSA sought comment on the environmental assessment contained in the April 26, 2012, NPRM published under Docket PHMSA 2011-0138 [77 FR 24885] (HM-218G); however, PHMSA did not receive any comments on the environmental assessment contained in that rulemaking. In addition, PHMSA sought comment from the following Federal Agencies and modal partners:

• Department of Defense

• Environmental Protection Agency

• Federal Aviation Administration

• Federal Motor Carrier Safety Administration

• Federal Railroad Administration

PHMSA did not receive any adverse comments on the amendments proposed in this NPRM from these Federal Agencies.

Conclusion

The proposed amendments are intended to update, clarify, or provide relief from certain existing regulatory requirements to promote safer transportation practices; eliminate unnecessary regulatory requirements; facilitate international commerce; and make these requirements easier to understand. These proposed amendments, if adopted, will foster a greater level of compliance with the HMR and thus the net environmental impact of this proposal will be slightly positive.

The provisions of this proposed rule build on current regulatory requirements to enhance the transportation safety and security of shipments of hazardous materials transported by highway, rail, aircraft and vessel, thereby reducing the risks of an accidental or intentional release of hazardous materials and consequent environmental damage. PHMSA believes that there are no non-negligible environmental impacts associated with this proposed rule.

PHMSA welcomes any views, data, or information related to environmental impacts that may result if the proposed requirements are adopted, as well as possible alternatives and their environmental impacts.

J. Privacy Act

Anyone is able to search the electronic form of any written communications and comments received into any of our dockets by the name of the individual submitting the document (or signing the document, if submitted on behalf of an association, business, labor union, etc.). DOT posts these comments, without edit, including any personal information the commenter provides, to www.regulations.gov, as described in the system of records notice (DOT/ALL-14 FDMS), which can be reviewed at www.dot.gov/privacy.

K. Executive Order 13609 and International Trade Analysis

Under Executive Order 13609 (“Promoting International Regulatory Cooperation”), agencies must consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA participates in the establishment of international standards in order to protect the safety of the American public, and we have assessed the effects of the proposed rule to ensure that it does not cause unnecessary obstacles to foreign trade. Accordingly, this rulemaking is consistent with Executive Order 13609 and PHMSA's obligations under the Trade Agreement Act, as amended.

L. National Technology Transfer and Advancement Act

The National Technology Transfer and Advancement Act of 1995 (15 U.S.C. 272 note) directs Federal agencies to use voluntary consensus standards in their regulatory activities unless doing so would be inconsistent with applicable law or otherwise impractical. Voluntary consensus standards are technical standards (e.g. specification of materials, test methods, or performance requirements) that are developed or adopted by voluntary consensus standard bodies. This NPRM does not involve voluntary consensus standards.

List of Subjects

49 CFR Part 171

Definitions and abbreviations, Exports, Hazardous materials transportation, Hazardous waste, Imports, Incorporation by reference, Reporting and recordkeeping requirements.

49 CFR Part 172

Education, Hazardous materials transportation, Hazardous waste, Labeling, Markings, Packaging and containers, Reporting and recordkeeping requirements.

49 CFR Part 173

Hazardous materials transportation, Packaging and containers, Reporting and recordkeeping requirements, Training.

49 CFR Part 176

Hazardous materials transportation, Maritime carriers, Reporting and recordkeeping requirements.

49 CFR Part 178

Hazardous materials transportation, Incorporation by reference, Motor vehicle safety, Packaging and containers, Reporting and recordkeeping requirements.

49 CFR Part 180

Hazardous materials transportation, Motor carriers, Motor vehicle safety, Packaging and containers, Railroad safety, Reporting and recordkeeping requirements.

In consideration of the foregoing, we are proposing to amend 49 CFR chapter I as follows:

PART 171—GENERAL INFORMATION, REGULATIONS, AND DEFINITIONS

1. The authority citation for part 171 continues to read as follows:

Authority: 49 U.S.C. 5101-5128, 44701; Pub. L. 101-410, section 4 (28 U.S.C. 2461 note); Pub. L. 104-121, sections 212-213; Pub. L. 104-134, section 31001; 49 CFR 1.81 and 1.97.

2. In § 171.7:

a. Revise paragraphs (l)(1), (2), and (5);

b. Add paragraph (l)(12);

c. Revise paragraph (n)(7); and

d. Revise paragraph (o).

The revisions and additions read as follows:

§ 171.7 Reference material.

* * * * *

(l) * * *

(1) Chlorine Institute Emergency Kit “A” for 100-lb. & 150-lb. Chlorine Cylinders (with the exception of repair method using Device 8 for side leaks), Edition 12, January 2013, into § 173.3.

(2) Chlorine Institute Emergency Kit “B” for Chlorine Ton Containers (with the exception of repair method using Device 9 for side leaks), Edition 10, January 2009, into § 173.3.

* * * * *

(5) Section 3, Pamphlet 57, Emergency Shut-Off Systems for Bulk Transfer of Chlorine, Edition 5, Revision 1, March 2009, into § 177.840.

* * * * *

(12) Sections 4 through 6, Pamphlet 168, Guidelines for Dual Valve Systems for Bulk Chlorine Transport, Edition 1, February 2013, into § 178.337-9.

* * * * *

(n) * * *

(7) CGA C-7-2014, Guide to Classification and Labeling of Compressed Gases, Tenth Edition, November 2014, into § 172.400a.

* * * * *

(o) Department of Defense (DoD), DoD Explosives Safety Board, 4800 Mark Center Drive, Suite 16E12, Alexandria, VA 22350, https://www.ddesb.pentagon.mil/; or Defense Logistics Agency, Technical and Quality Assurance Division, 8725 John J. Kingman Rd., Fort Belvoir, VA 22060, http://www.dla.mil/Pages/default.aspx.

(1) DOD TB 700-2; NAVSEAINST 8020.8C; TO 11A-1-47: Ammunition and Explosives Hazard Classification Procedures, July 30, 2012, into § 173.56.

(2) DOD DLAR 4145.41/AR 700-143/NAVSUPINST 4030.55D/AFMAN 24-210_IP/MCO 4030.40C: Packaging of Hazardous Material, April 21, 2015, into § 173.7.

* * * * *

PART 172—HAZARDOUS MATERIALS TABLE, SPECIAL PROVISIONS, HAZARDOUS MATERIALS COMMUNICATIONS, EMERGENCY RESPONSE INFORMATION, TRAINING REQUIREMENTS, AND SECURITY PLANS

3. The authority citation for part 172 continues to read as follows:

Authority: 49 U.S.C. 5101-5128, 44701; 49 CFR 1.81, 1.96 and 1.97.

4. In § 172.205, paragraph (j) is added to read as follows:

§ 172.205 Hazardous waste manifest.

* * * * *

(j) Electronic manifests that are obtained, completed, and transmitted in accordance with 40 CFR 262.20(a)(3), and used in accordance with § 262.24 in lieu of EPA Forms 8700-22 and 8700-22A are the legal equivalent of paper manifest forms bearing handwritten signatures, and satisfy for all purposes any requirements in these regulations to obtain, complete, sign, provide, use, or retain a manifest. Electronic signatures in conformance with 40 CFR 262.25 are therefore acceptable in lieu of handwritten signatures required by paragraphs (c) and (d) of this section provided one printed copy of the electronic manifest bearing the electronic signature is provided to the initial transporter as required by 40 CFR 262.24(d).

5. In § 172.407, paragraphs (c) and (f) are revised to read as follows:

§ 172.407 Label specifications.

* * * * *

(c) Size. (1) Each diamond (square-on-point) label prescribed in this subpart must be at least 100 mm (3.9 inches) on each side with each side having a solid line inner border approximately 5 mm inside and parallel to the edge. The 5 mm measurement must be located from the outside edge of the label to the outside of the solid line forming the inner border. The width of the solid line forming the inner border must be at least 2 mm.

(i) If the size of the package so requires, the dimensions of the label and its features may be reduced provided the symbol and other elements of the label remain clearly visible. The solid line forming the inner border must remain approximately 5 mm from the outside edge of the label and the minimum width of the line must remain 2 mm.

(ii) Where dimensions are not specified, all features shall be in approximate proportion to those shown in §§ 172.411 through 172.448 of this subpart, as appropriate.

(iii) Transitional exception—A label in conformance with the requirements of this paragraph in effect on December 31, 2014, may continue to be used until December 31, 2016.

(iv) For domestic transportation, a packaging labeled prior to January 1, 2017 and in conformance with the requirements of this paragraph in effect on December 31, 2014, may continue in service until the end of its useful life.

(2) The CARGO AIRCRAFT ONLY label must be a rectangle measuring at least 110 mm (4.3 inches) in height by 120 mm (4.7 inches) in width. The words “CARGO AIRCRAFT ONLY” must be shown in letters measuring at least 6.3 mm (0.25 inches) in height.

(3) Except as otherwise provided in this subpart, the hazard class number, or division number, as appropriate, must be at least 6.3 mm (0.25 inches) and not greater than 12.7 mm (0.5 inches).

(4) When text indicating a hazard is displayed on a label, the label name must be shown in letters measuring at least 7.6 mm (0.3 inches) in height. For SPONTANEOUSLY COMBUSTIBLE or DANGEROUS WHEN WET labels, the words “Spontaneously” and “When Wet” must be shown in letters measuring at least 5.1 mm (0.2 inches) in height.

(5) The symbol on each label must be proportionate in size to that shown in the appropriate section of this subpart.

* * * * *

(f) Exceptions. Except for materials poisonous by inhalation (see § 171.8 of this chapter), a label conforming to specifications in the UN Recommendations, the ICAO Technical Instructions, the IMDG Code, or the Transport Canada TDG Regulations (IBR, see § 171.7 of this chapter) may be used in place of a corresponding label that conforms to the requirements of this subpart.

* * * * *

6. In § 172.519, paragraphs (c) and (f) are revised to read as follows:

§ 172.519 General specifications for placards.

* * * * *

(c) Size. (1) Each diamond (square-on-point) placard prescribed in this subpart must measure at least 250 mm (9.84 inches) on each side and must have a solid line inner border approximately 12.5 mm inside and parallel to the edge. The 12.5 mm measurement is from the outside edge of the placard to the outside of the solid line forming the inner border.

(i) Transitional exceptions. A placard in conformance with the requirements of this paragraph in effect on December 31, 2014, may continue to be used until December 31, 2016.

(ii) For domestic transportation, a placard manufactured prior to January 1, 2017 in conformance with the requirements of this paragraph in effect on December 31, 2014, may continue in service until the end of its useful life provided the color tolerances are maintained and are in accordance with the display requirements of this chapter.

(2) Except as otherwise provided in this subpart, the hazard class or division number, as appropriate, must be shown in numerals measuring at least 41 mm (1.6 inches) in height.

(3) Except as otherwise provided in this subpart, when text indicating a hazard is displayed on a placard, the printing must be in letters measuring at least 41 mm (1.6 inches) in height.

* * * * *

(f) Exceptions. When hazardous materials are offered for transportation or transported under the provisions of subpart C of part 171 of this chapter, a placard conforming to the specifications in the UN Recommendations, the ICAO Technical Instructions, the IMDG Code, or the Transport Canada TDG Regulations (IBR, see § 171.7 of this chapter) may be used in place of a corresponding placard conforming to the requirements of this subpart. However, a bulk packaging, transport vehicle, or freight container containing a material poisonous by inhalation (see § 171.8 of this chapter) must be placarded in accordance with this subpart (see § 171.23(b)(10) of this chapter).

* * * * *

7. In § 172.604, paragraph (d) is revised to read as follows:

§ 172.604 Emergency response telephone number.

* * * * *

(d) The requirements of this section do not apply to—

(1) Hazardous materials that are offered for transportation under the provisions applicable to limited quantities or excepted quantities; or

(2) Materials properly described under the following shipping names:

Battery powered equipment.

Battery powered vehicle.

Carbon dioxide, solid.

Castor bean.

Castor flake.

Castor meal.

Castor pomace.

Consumer commodity.

Dry ice.

Engines, internal combustion.

Fish meal, stabilized.

Fish scrap, stabilized.

Krill Meal, PG III.

Refrigerating machine.

Vehicle, flammable gas powered.

Vehicle, flammable liquid powered.

Wheelchair, electric.

(3) Transportation vehicles or freight containers containing lading that has been fumigated and displaying the FUMIGANT marking (see § 172.302(g)) as required by § 173.9 of this chapter, unless other hazardous materials are present in the cargo transport unit.

PART 173—SHIPPERS—GENERAL REQUIREMENTS FOR SHIPMENTS AND PACKAGINGS

8. The authority citation for part 173 continues to read as follows:

Authority: 49 U.S.C. 5101-5128, 44701; 49 CFR 1.81, 1.96 and 1.97.

9. In § 173.5a, paragraph (c)(1) is revised to read as follows:

§ 173.5a Oilfield service vehicles, mechanical displacement meter provers, and roadway striping vehicles exceptions.

* * * * *

(c) * * *

(1) Authorized materials. Only the hazardous materials listed in the table below may be transported in roadway striping vehicles. Cargo tanks may not be filled to a capacity that would be greater than liquid full at 130 °F.

Hazardous Materials Description
Proper shipping name | Hazard class/division | Identification No. | Packing group
Adhesives, containing a flammable liquid | 3 | UN1133 | II
Paint including paint, lacquer, enamel, stain, shellac solution, varnish, polish, liquid filler, and liquid lacquer base | 3 | UN1263 | II
Paint related material including paint thinning drying, removing, or reducing compound | 3 | UN1263 | II
Flammable liquids, n.o.s.ᵃ | 3 | UN1993 | II
Gasoline | 3 | UN1203 | II
Acetone ᵇ | 3 | UN1090 | II
Dichloromethane ᵇ | 6.1 | UN1593 | III
Ethyl methyl ketone or Methyl ethyl ketone ᵇ | 3 | UN1193 | II
Ethyl acetate ᵇ | 3 | UN1173 | II
Methanol ᵇ | 3 | UN1230 | II
Organic peroxide type E, liquid (Dibenzoyl peroxide) ᶜ | 5.2 | UN3107 | NA
Petroleum distillates, n.o.s. or Petroleum products, n.o.s.ᵇ | 3 | UN1268 | III
1,1,1-Trichloroethane ᵇ | 6.1 | UN2831 | III
Toluene ᵇ | 3 | UN1294 | II
Xylenes ᵇ | 3 | UN1307 | II, III
Environmentally hazardous substance, liquid, n.o.s.ᶜ | 9 | UN3082 | III
Corrosive liquid, basic, organic, n.o.s.ᶜ | 8 | UN3267 | III
Corrosive liquids, n.o.s.ᶜ | 8 | UN1760 | III
Elevated temperature liquid, n.o.s., at or above 100 °C and below its flash point (including molten metals, molten salts, etc.) ᵈ | 9 | UN3257 | III
Amines, liquid, corrosive, n.o.s.ᶜ or Polyamines, liquid, corrosive, n.o.s.ᶜ | 8 | UN2735 | III
ᵃ: Adhesive containing ethyl acetate.
ᵇ: Solvent.
ᶜ: Catalyst.
ᵈ: Thermoplastic material non-hazardous at room temperature.

* * * * *

10. In § 173.24a, revise paragraphs (b)(1) and (3) to read as follows:

§ 173.24a Additional general requirements for non-bulk packagings and packages.

* * * * *

(b) * * *

(1) A single or composite non-bulk packaging may be filled with a liquid hazardous material only when the specific gravity of the material or gross mass of the package does not exceed that marked on the packaging, or a specific gravity of 1.2 if not marked, except as follows:

(i) A Packing Group I packaging may be used for a Packing Group II material with a specific gravity not exceeding the greater of 1.8, or 1.5 times the specific gravity or gross mass of the package marked on the packaging, provided all the performance criteria can still be met with the higher specific gravity material;

(ii) A Packing Group I packaging may be used for a Packing Group III material with a specific gravity not exceeding the greater of 2.7, or 2.25 times the specific gravity or gross mass of the package marked on the packaging, provided all the performance criteria can still be met with the higher specific gravity material; and

(iii) A Packing Group II packaging may be used for a Packing Group III material with a specific gravity not exceeding the greater of 1.8, or 1.5 times the specific gravity or gross mass of the package marked on the packaging, provided all the performance criteria can still be met with the higher specific gravity material.

* * * * *

(3) A single or composite non-bulk packaging which is tested and marked for liquid hazardous materials may be filled with a solid hazardous material to a gross mass, in kilograms, not exceeding the rated capacity of the packaging in liters, or gross mass of the package, multiplied by the specific gravity or gross mass of the package marked on the packaging, or 1.2 if not marked. In addition:

(i) A single or composite non-bulk packaging which is tested and marked for Packing Group I liquid hazardous materials may be filled with a solid Packing Group II hazardous material to a gross mass, in kilograms, not exceeding the rated capacity of the packaging in liters, or gross mass of the package, multiplied by 1.5, multiplied by the specific gravity or gross mass of the package marked on the packaging, or 1.2 if not marked.

(ii) A single or composite non-bulk packaging which is tested and marked for Packing Group I liquid hazardous materials may be filled with a solid Packing Group III hazardous material to a gross mass, in kilograms, not exceeding the rated capacity of the packaging in liters, or gross mass of the package, multiplied by 2.25, multiplied by the specific gravity or gross mass of the package marked on the packaging, or 1.2 if not marked.

(iii) A single or composite non-bulk packaging which is tested and marked for Packing Group II liquid hazardous materials may be filled with a solid Packing Group III hazardous material to a gross mass, in kilograms, not exceeding the rated capacity of the packaging in liters, or gross mass of the package, multiplied by 1.5, multiplied by the specific gravity or gross mass of the package marked on the packaging, or 1.2 if not marked.

* * * * *

11. In § 173.31, paragraph (e) is revised to read as follows:

§ 173.31 Use of tank cars.

* * * * *

(e) Special requirements for materials poisonous by inhalation—(1) Interior heater coils. Tank cars used for materials poisonous by inhalation may not have interior heater coils.

(2) Tank car specifications. A tank car used for a material poisonous by inhalation must have a tank test pressure of 20.7 Bar (300 psig) or greater, head protection, and a metal jacket (e.g., DOT 105S300W), except that—

(i) A higher test pressure is required if otherwise specified in this chapter; and

(ii) Each tank car constructed on or after March 16, 2009, and used for the transportation of PIH materials must meet the applicable authorized tank car specifications and standards listed in § 173.244(a)(2) or (3) and § 173.314(c) or (d).

(iii) [Reserved]

(iv) A tank car owner retiring or otherwise removing a tank car from service transporting materials poisonous by inhalation, other than because of damage to the car, must retire or remove cars constructed of non-normalized steel in the head or shell before removing any car in service transporting materials poisonous by inhalation constructed of normalized steel meeting the applicable DOT specification.

* * * * *

12. In § 173.150, paragraph (g) is revised to read as follows:

§ 173.150 Exceptions for Class 3 (flammable and combustible liquids).

* * * * *

(g) Limited quantities of retail products containing ethyl alcohol. (1) Beverages, food, cosmetics and medicines, medical screening solutions, and concentrates sold as retail products containing ethyl alcohol classed as a flammable liquid or flammable solid containing not more than 70% ethyl alcohol by volume for liquids, by weight for solids are excepted from the HMR provided that:

(i) For non-glass inner packagings:

(A) The volume does not exceed 16 fluid ounces (473 mL) in capacity for liquids; or

(B) For volumes greater than 16 fluid ounces (473 mL) but not exceeding 1 gallon (5 L) the company name and the words “Contains Ethyl Alcohol” are marked on the package;

(C) Solids containing ethyl alcohol may be packaged in non-glass inner packagings not exceeding 1 pounds (.45 kg) capacity;

(D) For weight greater than 1 pounds (.45 kg) up to 8 pounds (3.6 kg) the company name and the words “Contains Ethyl Alcohol” are marked on the package.

(ii) For glass inner packagings:

(A) The volume does not exceed 8 fluid ounces (236 mL) in capacity; or

(B) For volumes greater than 8 fluid ounces (236 mL) to 16 fluid ounces (473 mL) the company name and the words “Contains Ethyl Alcohol” are marked on the package;

(C) Solids containing ethyl alcohol may be packaged in glass inner packagings not exceeding ½ pounds (.23 kg);

(D) For weight greater than ½ pound (.23 kg) up to 1 pounds (.45 kg) the company name and the words “Contains Ethyl Alcohol” are marked on the package.

(iii) The net liquid contents of all inner packagings in any single outer packaging may not exceed 192 fluid ounces (5.6 liters). The net solid contents of all inner packagings in any single outer packaging may not exceed 32 pounds (14.5 kg). The gross weight of any single outer package shipped may not exceed 65 pounds (29.4 kg); Inner packagings must be secured and cushioned within the outer package to prevent breakage, leakage, and movement.

(2) Beverages, food, cosmetics and medicines, medical screening solutions, and concentrates sold as retail products containing ethyl alcohol classed as a flammable liquid or flammable solid containing more than 70% ethyl alcohol by volume, by weight for solids are excepted from the HMR provided that:

(i) For inner packagings containing liquids the volume does not exceed 8 fluid ounces (250 mL) in capacity;

(ii) Solids containing ethyl alcohol are not packed in inner packagings exceeding ½ pound (0.23 kg) in weight;

(iii) The net liquid contents of all inner packagings in any single outer packaging may not exceed 192 fluid ounces (5.6 liters). The net solid contents of all inner packagings in any single outer packaging may not exceed 32 pounds (14.5 kg). The gross weight of any single outer package shipped may not exceed 65 pounds (29.4 kg). Inner packagings must be secured and cushioned within the outer package to prevent breakage, leakage, and movement.

(3) For transportation by passenger or cargo aircraft, no outer package may be transported which contains an inner packaging exceeding:

(i) 16 fluid ounces (473 mL) of flammable liquid; or

(ii) 1 pound (0.45 kg) of solids containing flammable liquid.

* * * * *

13. In § 173.156, paragraph (b) is revised to read as follows:

§ 173.156 Exceptions for limited quantity and ORM.

* * * * *

(b) Packagings for limited quantity and ORM-D are specified according to hazard class in §§ 173.150 through 173.155, 173.306 and 173.309(b). In addition to exceptions provided for limited quantity and ORM-D materials elsewhere in this part, the following are provided:

(1) Strong outer packagings as specified in this part, marking requirements specified in subpart D of part 172 of this chapter, and the 30 kg (66 pounds) gross weight limitation when—

(i) Unitized in cages, carts, boxes or similar overpacks;

(ii) Offered for transportation or transported by:

(A) Rail;

(B) Private or contract motor carrier; or

(C) Common carrier in a vehicle under exclusive use for such service; and

(iii) Transported to or from a manufacturer, a distribution center, or a retail outlet, or transported to a disposal facility from one offeror.

(2) The 30 kg (66 pounds) gross weight limitation does not apply to packages of limited quantity materials marked in accordance with § 172.315 of this chapter, or, until December 31, 2020, materials classed and marked as ORM-D and described as a Consumer commodity, as defined in § 171.8 of this chapter, when offered for transportation or transported by highway or rail between a manufacturer, a distribution center, and a retail outlet provided—

(i) Inner packagings conform to the quantity limits for inner packagings specified in §§ 173.150(b), 173.152(b), 173.154(b), 173.155(b), 173.306(a) and (b), and 173.309(b), as appropriate;

(ii) The inner packagings are packed into corrugated fiberboard trays to prevent them from moving freely;

(iii) The trays are placed in a fiberboard box which is banded and secured to a metal, plastic, composite, or wooden pallet by metal, fabric, or plastic straps, to form a single palletized unit;

(iv) The package conforms to the general packaging requirements of subpart B of this part; and

(v) The maximum net quantity of hazardous material permitted on one palletized unit is 250 kg (550 pounds).

* * * * *

14. In § 173.301, paragraphs (a)(11) and (12) are added to read as follows:

§ 173.301 General requirements for shipment of compressed gases and other hazardous materials in cylinders, UN pressure receptacles and spherical pressure vessels.

* * * * *

(a) * * *

(11) Cylinder valves manufactured on or after May 4, 2015, used on cylinders to transport compressed gases must conform to the requirements in CGA V-9-2012. A valve for a UN pressure receptacle must conform to the requirements of § 173.301b(c)(1).

(12) Cylinder valve protection caps manufactured on or after May 4, 2015, must conform to the requirements of CGA V-9-2012. Cylinder valve protection caps used on UN cylinders must conform to the requirements in § 173.301b(c)(2)(ii).

* * * * *

PART 176—CARRIAGE BY VESSEL

15. The authority citation for part 176 continues to read as follows:

Authority: 49 U.S.C. 5101-5128; 49 CFR 1.81 and 1.97.

16. In § 176.415, paragraph (b)(5) is added to read as follows:

§ 176.415 Permit requirements for Division 1.5, ammonium nitrates, and certain ammonium nitrate fertilizers.

* * * * *

(b) * * *

(5) Ammonium nitrate, Division 5.1 (oxidizer) UN1942, shipped as a limited quantity, if the nearest COTP is notified at least 24 hours in advance of any loading or unloading in excess of 454 kg (1,000 pounds).

* * * * *

PART 178—SPECIFICATIONS FOR PACKAGINGS

17. The authority citation for part 178 continues to read as follows:

Authority: 49 U.S.C. 5101-5128; 49 CFR 1.81 and 1.97.

18. In § 178.35, paragraph (f)(7) is added to read as follows:

§ 178.35 General requirements for specification cylinders.

* * * * *

(f) * * *

(7) Marking exceptions. A DOT 4 or 4AL cylinder is not required to be marked with the service pressure.

* * * * *

19. In § 178.337-9, paragraph (b)(8) is revised as follows:

§ 178.337-9 Pressure relief devices, piping, valves, hoses and fittings.

* * * * *

(b) * * *

(8) Chlorine cargo tanks. Angle valves on cargo tanks intended for chlorine service must conform to the standards of the Chlorine Institute, Inc., Dwg. 104-8 or “Section 3, Pamphlet 166, Angle Valve Guidelines for Chlorine Bulk Transportation” or “Sections 4 through 6, Pamphlet 168, Guidelines for Dual Valve Systems for Bulk Chlorine Transport, Edition 1, February 2013” (IBR, see § 171.7 of this chapter). Before installation, each angle valve must be tested for leakage at not less than 225 psig using dry air or inert gas.

20. In § 178.516, paragraph (b)(7) is revised to read as follows:

§ 178.516 Standards for fiberboard boxes.

* * * * *

(b) * * *

(7) Authorization to manufacture, mark, and sell UN4G combination packagings with outer fiberboard boxes and with inner fiberboard components that have individual containerboard or paper wall basis weights that vary by not more than plus or minus 10% from the nominal basis weight reported in the initial design qualification test report.

21. In § 178.703, paragraph (b)(6) is revised to as follows:

§ 178.703 Marking of IBCs.

* * * * *

(b) * * *

(6) For each composite IBC, the inner receptacle must be marked with at least the following information:

(i) The code number designating the IBC design type, the name and address or symbol of the manufacturer, the date of manufacture and the country authorizing the allocation of the mark as specified in paragraph (a) of this section. The date of manufacture of the inner receptacle may be different from the marked date of manufacture required by § 178.703(a)(1)(iv) or by § 180.352(d)(1)(iv) of this chapter provided that the retest and inspection of the IBCs be based on the earliest marked date; and

(ii) When a composite IBC is designed in such a manner that the outer casing is intended to be dismantled for transport when empty (such as, for the return of the IBC for reuse to the original consignor), each of the parts intended to be detached when so dismantled must be marked with the month and year of manufacture and the name or symbol of the manufacturer.

* * * * *

PART 180—CONTINUING QUALIFICATION AND MAINTENANCE OF PACKAGINGS

22. The authority citation for part 180 continues to read as follows:

Authority: 49 U.S.C. 5101-5128; 49 CFR 1.81 and 1.97.

23. In § 180.407, paragraph (g)(1)(iv) is revised to read as follows:

§ 180.407 Requirements for test and inspection of specification cargo tanks.

* * * * *

(g) * * *

(1) * * *

(iv) Each cargo tank must be tested hydrostatically or pneumatically to the internal pressure specified in the following table. At no time during the pressure test may a cargo tank be subject to pressures that exceed those identified in the following table:

Specification | Test pressure
MC 300, 301, 302, 303, 305, 306 | The test pressure on the name plate or specification plate, 20.7 kPa (3 psig) or design pressure, whichever is greater.
MC 304, 307 | The test pressure on the name plate or specification plate, 275.8 kPa (40 psig) or 1.5 times the design pressure, whichever is greater.
MC 310, 311, 312 | The test pressure on the name plate or specification plate, 20.7 kPa (3 psig) or 1.5 times the design pressure, whichever is greater.
MC 330, 331 | The test pressure on the name plate or specification plate, 1.5 times either the MAWP or the re-rated pressure, whichever is applicable.
MC 338 | The test pressure on the name plate or specification plate, 1.25 times either the MAWP or the re-rated pressure, whichever is applicable.
DOT 406 | The test pressure on the name plate or specification plate, 34.5 kPa (5 psig) or 1.5 times the MAWP, whichever is greater.
DOT 407 | The test pressure on the name plate or specification plate, 275.8 kPa (40 psig) or 1.5 times the MAWP, whichever is greater.
DOT 412 | The test pressure on the name plate or specification plate, 1.5 times the MAWP.

* * * * *

24. In § 180.605, paragraph (l) is revised to read as follows:

§ 180.605 Requirements for periodic testing, inspection and repair of portable tanks.

* * * * *

(l) Record retention. (1) The owner of each portable tank or his authorized agent shall retain a written record of the date and results of all required inspections and tests, including an ASME manufacturer's date report, if applicable, and the name and address of the person performing the inspection or test, in accordance with the applicable specification. The manufacturer's data report, including a certificate(s) signed by the manufacturer, and the authorized design approval agency, as applicable, indicating compliance with the applicable specification of the portable tank, and related papers certifying that the portable tank was manufactured and tested in accordance with the applicable specification must be retained in the files of the owner, or his authorized agent, during the time that such portable tank is used for such service, except for Specifications 56 and 57 portable tanks.

(2) If the owner does not have the manufacturer's certificate required by the specification and the manufacturer's data report required by the ASME, the owner may contact the National Board for a copy of the manufacturer's data report, if the portable tank was registered with the National Board, or copy the information contained on the portable tanks specification plate and ASME Code data plates.

Issued in Washington, DC, on June 23, 2016, under authority delegated in 49 CFR 1.97.
William Schoonover,
Acting Associate Administrator for Hazardous Materials Safety, Pipeline and Hazardous Materials Safety Administration.

[FR Doc. 2016-15303 Filed 6-29-16; 8:45 am]

BILLING CODE 4910-60-P